DEPARTMENT OF THE INTERIOR

Fish and Wildlife Service

Environmental Statements; Availability etc: Incidental Take Permits—Bastrop County, TX; Houston Toad and Bald Eagle

Notice of Availability of a Revised Environmental Assessment/Habitat Conservation Plan for Permit Numbers TE-025997-0 and TE-025965-0 for Issuance of Endangered Species Act Section 10(a)(1)(B) Permits for the Incidental Take of the Endangered Houston Toad and the Threatened Bald Eagle During the Construction and Occupation of Single Family Residences or Other Similar Structures (each on approximately 0.5 acres or less) in 46 Subdivisions in Bastrop County, Texas.

SUMMARY: The U.S. Fish and Wildlife Service has prepared a revised Environmental Assessment/Habitat Conservation Plan (EA/HCP) for issuance of Endangered Species Act Section 10(a)(1)(B) permits (numbers TE-025997-0 and TE-025965-0) for the incidental take of the endangered Houston toad (Bufo houstonensis) and threatened bald eagle (Haliaeetus leucocephalus). The revised EA/HCP adds the bald eagle to the existing 46-subdivision EA/HCP that currently only covers the Houston toad. In addition, the proposed EA/HCP would allow for the construction of other similar structures, as long as the action on the property disturbs no more than approximately 0.5 acres of habitat within each eligible lot. The Service proposes issuing endangered species permits to individual lot owners under an EA/HCP, where each permit would authorize the incidental take of the Houston toad and bald eagle, directly or indirectly, from the construction and occupation of a single-family residence or other similar structure on an undeveloped lot in the 46 subdivisions covered under this EA/HCP. This revised EA/HCP will allow for responsible development of the lots while minimizing and offsetting impacts to the Houston toad and bald eagle by providing for on-site and off-site conservation measures that will be used to promote the long-term survival of the species. It is also considered to provide the most simplified, expeditious, and effective process by which landowners can comply with the provisions of the Endangered Species Act in a more efficient manner. The revised EA/HCP requires the same avoidance, minimization, and mitigation efforts from every lot owner, within their respective category. Issuance of incidental take permits for the Houston toad and bald eagle will be conducted as they are currently for the Houston toad.

DATES: Written comments on the revision are being accepted and should be received on or before June 25, 2001.

ADDRESSES: Persons wishing to review the revised EA/HCP may obtain a copy by contacting: the Austin Office of the U.S. Fish and Wildlife Service, 10711 Burnet Road, Suite 200, Austin, Texas 78758 (512/490-0057). Documents will be available for public inspection by written request, or by appointment only, during normal business hours (8 to 4:30) at the U.S. Fish and Wildlife Service, Austin, Texas. Written data or comments concerning the proposed revisions should be submitted to the Field Supervisor, Austin Field Office of the U.S. Fish and Wildlife Service, at the above address. Please refer to permit numbers TE-025997-0 and TE-025965-0 when submitting comments.

FOR FURTHER INFORMATION CONTACT: Contact the Austin Office of the U.S. Fish and Wildlife Service at the above address.

SUPPLEMENTARY INFORMATION: Section 9 of the Act prohibits the “taking” of endangered and threatened species such as the Houston toad and bald eagle. However, the Service, under limited circumstances, may issue permits to take threatened and endangered wildlife species incidental to, and not the purpose of, otherwise lawful activities. Regulations governing permits for endangered species are at 50 CFR 17.22.

The Service has divided the 46 subdivisions into two categories, those in low/marginal quality Houston toad habitat, and those in medium quality Houston toad habitat. The revised EA/HCP and associated permits (TE-025997-0 and TE-025965-0) will be in effect for a period of 5 years, and authorize the incidental take of the Houston toad and bald eagle. The proposed take to the Houston toad would occur as a result of the possible construction and occupation of undeveloped lots, utilizing no more than approximately 0.5 acres per eligible property, in 46 subdivisions in Bastrop County, Texas. The proposed take to the bald eagle is anticipated to occur only in the form of harassment, such as an increase in noise generated from the 46 subdivisions and increased recreational use of area lakes and the Colorado River. This notice is provided pursuant to Section 10(c) of the Act and National Environmental Policy Act regulations (40 CFR 1506.6).

Geoffrey L. Haskett,
Acting Regional Director, Region 2, Albuquerque, New Mexico.

[FR Doc. 01-10062 Filed 4-23-01; 8:45 am]

BILLING CODE 4510-55-P